GENERAL SERVICES ADMINISTRATION

Federal Supply Service

Household Goods Tender of Service

AGENCY: Federal Supply Service, GSA.

ACTION: Notice of final issuance of the GSA Household Goods Tender of Service.

SUMMARY: The General Services Administration (GSA), in compliance with 41 U.S.C. 418b, has finalized the GSA Household Goods Tender of Service (HTOS) which may be accessed as described in the Supplementary Information of this notice. The HTOS combines the Domestic Tender of Service (DTOS), effective January 2, 1996, and the International Tender of Service (ITOS), effective October 1, 1995, into a single document. It establishes a uniform basis for purchasing transportation, accessorial services, and storage-in-transit for personal effects, unaccompanied baggage, and privately owned vehicles of Federal civilian employees relocated in the interest of the Government.

EFFECTIVE DATE: June 12, 2002.

FOR FURTHER INFORMATION CONTACT: Ms. Lynn Ju, Transportation Programs Branch, by phone at 703-305-7060 or by e-mail at lynnette.ju@gsa.gov.

SUPPLEMENTARY INFORMATION: Agreement to abide by the provisions of the HTOS is a prerequisite for any carrier or household goods forwarder that wishes to participate in GSA's Centralized Household Goods Traffic Management Program (CHAMP). GSA's Federal customer agencies benefit from the HTOS which leverages the Government's buying power to provide agencies standardized, cost effective household goods transportation services.

The HTOS was published in the Federal Register for comment on December 21, 2001 (66 FR 246). Comments, due by February 19, 2002, were received from the American Moving and Storage Association (AMSA), and Steven's Van Lines. GSA considered all comments received in finalizing the document for publication, incorporated changes where appropriate, and reconciled with the commenting organizations those comments that were not adopted with one exception. One commenting organization pointed out the need to correct numerous “Government Bill of Lading (GBL)” references since the GBL was retired on March 31, 2002. GSA must carefully evaluate each reference—a time consuming process. Some references are appropriate since the GBL still may be used for international shipments. GSA will continue its evaluation and issue a subsequent HTOS amendment to correct any references that are inappropriate. The reissued HTOS effectively cancels the current DTOS and ITOS and all their supplements. The final HTOS is available through the Internet at the following site: http://www.r6.gsa.gov/fss/fsstt/hhg/tos.htm. If you are unable to access this information, please notify the point of contact listed above.

Dated: June 6, 2002.
Tauna T. Delmonico,
Director, Travel and Transportation Management Division.

[FR Doc. 02-14718 Filed 6-11-02; 8:45 am]

BILLING CODE 6820-24-P